DEPARTMENT OF TRANSPORTATION

Federal Transit Administration

49 CFR Part 661

[Docket No. FTA-2005-23082]

RIN 2132-AA90

Buy America Requirements; End Product Analysis and Waiver Procedures; Public Meeting and Extension of Comment Period

AGENCY: Federal Transit Administration (FTA), DOT.

ACTION: Notice announcing public meeting and extension of comment period.

SUMMARY: The Federal Transit Administration (FTA) is holding a public meeting on the Buy America second notice of proposed rulemaking (SNPRM). The purpose of this meeting is to allow the public to ask questions regarding the notice published on November 30, 2006 (71 FR 69411). Furthermore, due to the complexity of the issues presented in the SNPRM, FTA is extending the comment period to February 28, 2007, which will allow affected parties time to carefully consider the changes made in the SNPRM and the information presented at the public meeting.

DATES: Comments should be submitted before February 28, 2007. Late-filed comments will be considered to the extent practicable.

Public Meeting Date: FTA will hold a public meeting on February 13th and 14th of 2007 from 9 a.m.-4:30 p.m. at the Department of Transportation (DOT) headquarters building (400 7th Street, SW., Washington, DC 20590, Room 2201). Anyone interested in attending the meeting should arrive at the southwest entrance of the DOT building to go through security screening. Please allow a minimum of 15 minutes to clear security. A summary of the meeting will be posted in the docket. FTA will not accept public comment during the public meeting. Instead, attendees must submit their comments to the docket in order to have their comments considered by FTA.

ADDRESSES: You may submit comments identified by the docket number [FTA-2005—23082] by any of the following methods:

1. Web site: http://dms.dot.gov. Follow the instructions for submitting comments on the DOT electronic docket site.

2. Fax: 202-493-2251.

3. Mail: Docket Management Facility; U.S. Department of Transportation, 400 Seventh Street, SW., Nassif Building, PL-401, Washington, DC 20590-0001.

4. Hand Delivery: Room PL-401 on the plaza level of the Nassif Building, 400 Seventh Street, SW., Washington, DC, between 9 a.m. and 5 p.m., Monday through Friday, except Federal holidays.

Instructions: You must include the agency name (Federal Transit Administration and Docket number (FTA-2005—23082) for this Notice at the beginning of your comments. You should submit two copies of your comments if you submit them by mail. If you wish to receive confirmation that FTA received your comments, you must include a self-addressed stamped postcard. Note that all comments received will be posted, without change, to http://dms.dot.gov including any personal information provided and will be available to Internet users. You may review DOT's complete Privacy Act Statement in the Federal Register published on April 11, 2000 (65 FR 19477) or you may visit http:// dms.dot.gov. Docket: For access to the docket to read background documents and comments received, go to http://dms.dot.gov at any time or to Room PL-401 on the plaza level of the Nassif Building, 400 Seventh Street, SW., Washington, DC between 9 a.m. and 5 p.m., Monday through Friday, except Federal holidays.

FOR FURTHER INFORMATION CONTACT: Richard Wong, Attorney-Advisor, Office of the Chief Counsel, Federal Transit Administration, 400 Seventh Street SW., Room 9316, Washington, DC 20590, (202) 366-4011 or Richard.Wong@dot.gov.

SUPPLEMENTARY INFORMATION: On November 28, 2005, FTA published an NPRM in the Federal Register (70 FR 71246) discussing a number of proposals as mandated by SAFETEA-LU and to provide further clarification of existing FTA decisions on Buy America. Due to the complexity of many of the Buy America issues addressed in the NPRM and the divergence of opinion on important areas, FTA issued a final rule that addressed fewer issues than proposed in the NPRM. (71 FR 14112, March 21, 2006.) These more routine topics covered in the final rule included: (1) Administrative review; (2) A definition of “negotiated procurement;” (3) A definition of “contractor;” (4) Repeal of the general waiver for Chrysler vehicles; (5) Certification under negotiated procurements; (6) Pre-award and post-award review of rolling stock purchases; and (7) Miscellaneous corrections and clarifications to the Buy America regulations.

FTA issued a second notice of proposed rulemaking (SNPRM) on November 30, 2006, to address the remaining issues identified in the NPRM, but not covered in the final rule, including: (1) Justification for public interest waiver; (2) Microprocessor and post-award waivers; (3) Definition of “final assembly;” (4) The definition of “end product,” “system end products,” and a representative list of end products; and (5) Proposed changes to communication equipment and the list of rolling stock items in Part 661.

During the public meeting on February 13th and 14th at DOT headquarters, FTA staff will summarize its proposals in the SNPRM and staff will be available to answer questions regarding those proposals. This is an opportunity for affected parties to receive clarification regarding FTA's proposals. The public meeting is not, however, an opportunity to submit comments to FTA regarding the proposals contained in the SNPRM. Rather, interested parties should submit their comments to the docket for this rulemaking as described in the ADDRESSES section of this notice.

In addition, because of the complexity of the issues involved in the SNPRM, FTA is extending the comment period for the SNPRM until February 28, 2007. This additional time should be sufficient to allow those who attend the public meeting to submit comments to the docket for this rulemaking.

Issued this 10th day of January, 2007.
James S. Simpson,
Administrator.

[FR Doc. E7-473 Filed 1-16-07; 8:45 am]

BILLING CODE 4910-57-P